DEPARTMENT OF THE INTERIOR

National Park Service

[NPS-WASO-BSD-CONC-12098; PPWOBSADC0, PPMVSCS1Y.Y00000]

Proposed Information Collection; National Park Service Concessions

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on September 30, 2013. We may not conduct or sponsor and a person is not required to respond to a collection of information unless it displays a currently valid OMB control number.

DATES: To ensure that we are able to consider your comments on this IC, we must receive them by May 6, 2013.

ADDRESSES: Send your comments on the IC to Madonna L. Baucum, Information Collection Clearance Officer, National Park Service, 1201 I Street NW., MS 1237, Washington, DC 20005 (mail); or madonna_baucum@nps.gov (email). Please include “1024-0029” in the subject line of your comments.

FOR FURTHER INFORMATION CONTACT: To request additional information about this IC, contact Deborah Harvey, Acting Chief, Commercial Services Program, National Park Service, 1201 I Street, NW., Washington, DC 20005 (mail), (202) 513-7150 (phone), or deborah_harvey@nps.gov (email).

SUPPLEMENTARY INFORMATION:

I. Abstract

Private businesses under contract to the National Park Service manage food, lodging, tours, whitewater rafting, boating, and many other recreational activities and amenities in more than 100 national parks. These services gross more than $1 billion every year and provide jobs for more than 25,000 people during peak season.

The regulations at 36 CFR part 51 primarily implement Title IV of the National Parks Omnibus Management Act of 1998 (Pub. L. 105-391), which provides legislative authority, policies, and requirements for the solicitation, award, and administration of NPS concession contracts. The information collection requirements associated with NPS concessions are currently approved under four OMB control numbers. During our review for this renewal, we discovered some additional requirements that need OMB approval. In this revision of 1024-0029, we are including all of the information collection requirements associated with applying for and operating NPS concessions. If OMB approves this revision, we will discontinue OMB Control Numbers 1024-0125, 1024-0126, and 1024-0231. Following are the information collection requirements associated with soliciting, awarding, and administering NPS concessions:

(1) Proposals (partially approved under OMB Control Number 1024-0125). The public solicitation process begins with the issuance of a prospectus to invite the general public to submit proposals for the contract. The prospectus describes the terms and conditions of the concession contract to be awarded, the procedures to be followed in the selection of the best proposal, and the information that must be provided. Information that we collect includes, but is not limited to:

• Description of how respondent will conduct operations to minimize disturbance to wildlife; protect park resources; and provide visitors with a high quality, safe, and enjoyable visitor experience.

• Organizational structure and history and experience with similar operations.

• Details on violations or infractions and how they were handled.

• Financial information and demonstration that respondent has credible, proven track record of meeting obligations.

We collect this information in narrative and form format. While the information we collect is currently approved under OMB Control No. 1024-0125, OMB has not approved the following forms:

• Business Organization and Credit Information (Form 1 or 2).

• Business History Information Form.

• Investment Expenses.

• Investment Assumptions.

• Initial Investments and Start-up Expenses Form.

• Initial Investments and Start-up Expenses Assumptions.

• Income Statement Form.

• Income Statement Assumptions.

• Operating Assumptions.

• Cash Flow Statement Form.

• Cash Flow Statement Assumptions.

(2) Amendments. Amendments to proposals may be submitted in accordance with 36 CFR 51.15 and 51.32.

(3) Appeals (currently approved under OMB Control Number 1024-0231). Regulations at 36 CFR 51.47 state that any person may appeal to the Director, NPS a determination that a concessioner is not a preferred offeror for the purposes of a right of preference in renewal and that the appeal must specify the grounds for the appeal.

(4) Request to Construct a Capital Improvement (currently approved under OMB Control Number 1024-0231). In accordance with 36 CFR 51.54, a request for approval to construct a capital improvement must include appropriate plans and specifications for the capital improvement. The request must also include an estimate of the total construction cost of the capital improvement. The estimate of the total construction cost must specify all elements of the cost in such detail as is necessary to permit the Director, NPS to determine that they are elements of construction cost. The approval requirements of this and other sections of 36 CFR part 51 also apply to any change orders to a capital improvement project and to any additions to a structure or replacement of fixtures.

(5) Construction Report (currently approved under OMB Control Number 1024-0231). In accordance with 36 CFR 51.55, a concessioner obtaining a leasehold surrender interest must submit a construction report to the NPS. The construction report must be supported by actual invoices of the capital improvement's construction cost together with, if requested by the NPS, a written certification from a certified public accountant (CPA).

(6) Application to Sell or Transfer Concession Operation (currently approved under OMB Control Number 1024-0126). 36 CFR part 51, Subpart J, provides that a concessioner must obtain NPS approval to assign, sell, convey, grant, contract for, or otherwise transfer: any concession contract; any rights to operate under or manage the performance of a concession contract as a subconcessioner or otherwise; any controlling interest in a concessioner or concession contract; or any leasehold surrender interest or possessory interest obtained under a concession contract. The amount and type of information to be submitted varies with the type and complexity of the proposed transaction. Information includes, but is not limited to:

• Instruments proposed to implement the transaction.

• Opinion of counsel that the proposed transaction is lawful under all applicable Federal and State laws.

• Narrative description of the proposed transaction.

• Statement as to the existence and nature of any litigation relating to the proposed transaction.

• Description of the management qualifications, financial background, and financing and operational plans of any proposed transferee.

• Description of all financial aspects of the proposed transaction.

• Prospective financial statements (proformas).

• Schedule that allocates in detail the purchase price (or, in the case of a transaction other than an asset purchase, the valuation) of all assets assigned or encumbered. In addition, the applicant must provide a description of the basis for all allocations and ownership of all assets.

(7) Annual Financial Statements (currently approved under OMB Control No. 1024-0029). We use Forms 10-356 and 10-356A to collect annual financial reports. These forms are an accumulation of various financial statements commonly used by industry for reporting in conformance with generally accepted accounting principles. The information provides a comprehensive view of the concessioner's financial situation at the end of its fiscal year and the concessioner's activity over the preceding year.

(8) Recordkeeping. In accordance with 36 CFR 51.98, a concessioner (and any subconcessioner) must keep and make available to NPS, records for the term of the concession contract and for 5 years after the termination or expiration of the concession contract.

II. Data

OMB Control Number: 1024-0029.

Title: National Park Service Concessions, 36 CFR 51.

Service Form Numbers: 10-356, 10-356A.

Type of Request: Revision of a currently approved collection.

Description of Respondents: Individuals, businesses, and nonprofit organizations.

Respondent's Obligation: Required to obtain or retain a benefit.

Frequency of Collection: On occasion for proposals, amendments, and appeals; annually for financial reports; and ongoing for recordkeeping.

Activity | Number of respondents | Number of annual responses | Completion time per response (hours) | Total annual burden hours* | Estimated nonhour burden cost
Proposals:
Large Concessions | 30 | 30 | 240 | 7,200 | $240,000
Small Concessions | 60 | 60 | 80 | 4,800 | 180,000
Appeals | 1 | 1 | 1 | 1 | 0
Amendments | 1 | 1 | .5 | 1 | 0
Request to Construct Capital Improvement
Large Projects | 31 | 31 | 16 | 496 | 0
Small Projects | 89 | 89 | 8 | 712 | 0
Construction Report
Large Projects | 31 | 31 | 56 | 1,736 | 0
Small Projects | 89 | 89 | 24 | 2,136 | 0
Application to Sell/Transfer Concession Operation | 20 | 20 | 80 | 1,600 | 5,000
Annual Financial Statements
Form 10-356 (long) | 150 | 150 | 16 | 2,400 | 0
Form 10-356A (short) | 350 | 350 | 4 | 1,400 | 0
Recordkeeping
Large Concessions | 150 | 150 | 800 | 120,000 | 0
Small Concessions | 350 | 350 | 50 | 17,500 | 0
Totals | 1,352 | 1,352 | 1,376 | 159,982 | $425,000
* Rounded.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 1, 2013.
Madonna L. Baucum,
Information Collection Clearance Officer, National Park Service.

[FR Doc. 2013-05276 Filed 3-6-13; 8:45 am]

BILLING CODE 4312-EH-P